DEPARTMENT OF HOMELAND SECURITY

Coast Guard

33 CFR Part 117

[Docket No. USCG-2022-0222]

Drawbridge Operation Regulation; Okeechobee Waterway, Stuart, FL

AGENCY: Coast Guard, DHS.

ACTION: Notice of temporary deviation from regulations; request for comments.

SUMMARY: The Coast Guard has issued a temporary deviation from the operating schedule that governs the Florida East Coast (FEC) Railroad Bridge, mile 7.41, and the NW Dixie Highway Bridge, mile 7.5, across the Okeechobee Waterway (OWW), at Stuart, Florida. In anticipation of a significant increase in railway activity across the FEC Railroad Bridge, the Coast Guard is considering changing the operating regulation for the FEC Railroad Bridge to allow the drawbridge to operate on a more predictable schedule. The operating regulation for the adjacent NW Dixie Highway Bridge will be modified to allow for the drawbridges to operate in concert. This deviation will test a change to the drawbridge operation schedule to determine whether a permanent change to the schedule is needed. The Coast Guard is seeking comments from the public regarding this deviation.

DATES: This deviation is effective from 12:01 a.m. on June 21, 2023, through 11:59 p.m. on December 17, 2023.

Comments and related material must reach the Coast Guard on or before August 4, 2023.

ADDRESSES: You may submit comments identified by docket number USCG-2022-0222 using Federal Decision Making Portal at https://www.regulations.gov.

See the “Public Participation and Request for Comments” portion of the SUPPLEMENTARY INFORMATION section below for instructions on submitting comments.

FOR FURTHER INFORMATION CONTACT: If you have questions on this test deviation, call or email Ms. Jennifer Zercher, Bridge Management Specialist, Seventh Coast Guard District; telephone 305-415-6740, email Jennifer.N.Zercher@uscg.mil.

SUPPLEMENTARY INFORMATION:

I. Background, Purpose and Legal Basis

The FEC Railroad Bridge across the Okeechobee Waterway (OWW), mile 7.4, at Stuart, Florida is a single-leaf bascule bridge with a six-foot vertical clearance at mean high water in the closed position. The normal operating schedule for the bridge is found in 33 CFR 117.317(c).

The NW Dixie Highway Bridge across the OWW, mile 7.5, at Stuart, Florida, is a double-leaf bascule bridge with a 14-foot vertical clearance at mean high water in the closed position. The normal operating schedule for the bridge is found in 33 CFR 117.317(d). Navigation on the waterway is commercial and recreational.

In anticipation of a significant increase in railway activity across the FEC Railroad Bridge, the Coast Guard is considering changing the operating regulation for the FEC Railroad Bridge to allow the drawbridge to operate on a more predictable schedule and allow for reasonable usage of competing modes of transportation. The operating regulation for the adjacent NW Dixie Highway Bridge will be modified to allow for the drawbridges to operate in concert.

On May 3, 2022, the Coast Guard published a Notification of Inquiry entitled, “Drawbridge Operation Regulation; Okeechobee Waterway, Stuart, FL” in the Federal Register (87 FR 26145). On June 10, 2022, a Supplemental Notification of Inquiry entitled, “Drawbridge Operation Regulation; Okeechobee Waterway, Stuart, FL” was published in the Federal Register (87 FR 35472). We received a total 2358 comments on those publications. Those comments were taken into consideration when developing this test deviation.

Under this temporary deviation, the FEC Railroad Bridge shall open on signal at the quarter and three-quarter hour and remain open until all vessels requiring or requesting an opening have cleared, except any open period shall not exceed 15 minutes.

If a train is in the track circuit at the designated opening time, the opening may be delayed up to but not exceed five minutes. Once the train has cleared the track circuit, the bridge must open immediately, if requested, and remain open until all vessels requiring an opening have cleared, except any open period shall not exceed 15 minutes.

The drawbridge shall have a drawbridge tender onsite at all times, who is capable of physically tending and operating the drawbridge by local control, if necessary, or when ordered by the Coast Guard. Upon request, the drawbridge tender shall provide operational information 24 hours a day on VHF-FM channel 9. Electronic signs shall be posted visible to marine traffic and display VHF radio contact information, mobile application information, and the telephone number for the bridge tender.

In the event of a drawbridge operational failure, or other emergency circumstances impacting normal drawbridge operations, the drawbridge owner shall immediately notify the Coast Guard Captain of the Port Miami and provide an estimated time of repair and return to normal operations.

A drawbridge logbook shall be maintained including the date and each time it closes and opens to navigation, the number and direction of vessels passing through during each opening, the types of vessels passing through during each opening, and an estimated or known size (height, length, and beam) of the largest and smallest vessel passing through during each opening. The drawbridge logbook shall also include all maintenance openings, closings, malfunctions, or reasons for drawbridge closings that interfere with scheduled openings.

The drawbridge owner shall maintain a mobile application. The drawbridge owner shall publish drawbridge opening times, and the drawbridge owner shall provide timely updates to schedules, including but not limited to, impacts due to emergency circumstances, repairs, and inspections.

The NW Dixie Hwy Bridge shall open on signal; except when the adjacent FEC Railroad Bridge is in the closed position, the draw need not open. The draw must open immediately upon opening of the railroad bridge to pass all accumulated vessels which require an opening.

Vessels able to pass through the bridges in the closed position may do so at any time. There is no immediate alternate route for vessels to pass. The Coast Guard will also inform the users of the waterway through our Local and Broadcast Notices to Mariners of the change in operating schedule for the bridges.

In accordance with 33 CFR 117.35(e), the drawbridges must return to their regular operating schedules immediately at the end of the effective period of this temporary deviation. This deviation from the operating regulations is authorized under 33 CFR 117.35.

II. Public Participation and Request for Comments

We view public participation as essential to determining the needs of the public and will consider all comments and material received during the comment period. Your comment can help shape the outcome of future actions. If you submit a comment, please include the docket number for this test deviation, indicate the specific section of this document to which each comment applies, and provide a reason for each suggestion or recommendation.

Submitting comments. We encourage you to submit comments through the Federal Decision Making Portal at https://www.regulations.gov. To do so, go to https://www.regulations.gov, type USCG-2022-0222, in the search box and click “Search.” Next, look for this document in the Search Results column, and click on it. Then click on the Comment option. If your material cannot be submitted using https://www.regulations.gov, contact the person in the FOR FURTHER INFORMATION CONTACT section of this document for alternate instructions.

View material in the docket. To view documents mentioned in this deviation as being available in the docket, find the docket as described in the previous paragraph, and then select “Supporting & Related Material” in the Document Type column. Public comments will also be placed in our online docket and can be viewed by following instructions on the https://www.regulations.gov Frequently Asked Questions web page. We review all comments received, but we will only post comments that address the topic of this deviation. We may choose not to post off-topic, inappropriate, or duplicate comments that we receive. Additionally, if you go to the online docket and sign up for email alerts, you will be notified when comments, future actions or updates are posted to the docket.

We accept anonymous comments. Comments we post to https://www.regulations.gov will include any personal information you have provided. For more about privacy and submissions in response to this document, see DHS's eRulemaking System of Records notice (85 FR 14226, March 11, 2020).

Dated: June 2, 2023.
Brendan C. McPherson,
Rear Admiral, U.S. Coast Guard, Commander, Seventh Coast Guard District.

[FR Doc. 2023-12270 Filed 6-7-23; 8:45 am]

BILLING CODE 9110-04-P